DEPARTMENT OF ENERGY

Federal Energy Regulatory Commission

[Docket No. RP97-71-025]

Transcontinental Gas Pipe Line Corporation; Notice of Compliance Filing

February 6, 2001.

Take notice that on February 1, 2001, Transcontinental Gas Pipe Line Corporation (Transco) tendered for filing as part of its FERC Gas Tariff, Third Revised Volume No. 1, certain revised tariff sheets which sheets are enumerated in Appendix A to the filing, with an effective date of February 1, 2001.

Transco states that the purpose of the instant filing is to submit revised tariff sheets in compliance with Ordering Paragraph (C) of the Commission's Order on Rehearing and Compliance Filing issued January 24, 2001, which directed Transco to file within 30 days of the issuance of the order revised tariff sheets to be effective February 1, 2001. The tariff sheets submitted therein reflect the Commission's final resolution of the reserved issues set out in Article VIII of the Stipulation and Agreement filed in the referenced proceeding on January 20, 1998. Specifically, the tariff sheets contain revised rates to be effective February 1, 2001 that reflect (1) The removal of the effects of the Rate Schedule X-15 rate discount from Transco's billing determinants in its rate design volumes, (2) the rate of return approved in the March 17 Order, and (3) a rate equivalent to the forward haul rate under Transco's Rate Schedule IT for backhaul service provided under that Rate Schedule.

Transco states that copies of the filing are being mailed to each of its affected customers, interested State Commissions, and other interested parties.

Any person desiring to protest said filing should file a protest with the Federal Energy Regulatory Commission, 888 First Street, NE., Washington, DC 20426, in accordance with Section 385.211 of the Commission's Rules and Regulations. All such protests must be filed in accordance with section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-3445 Filed 2-9-01; 8:45 am]

BILLING CODE 6717-01-M